DEPARTMENT OF THE INTERIOR

National Park Service

[NPS-WASO-NRNHL-DTS#-39587; PPWOCRADI0, PCU00RP14.R50000]

National Register of Historic Places; Notification of Pending Nominations and Related Actions

AGENCY: National Park Service, Interior.

ACTION: Notice.

SUMMARY: The National Park Service is soliciting electronic comments on the significance of properties nominated before February 15, 2025, for listing or related actions in the National Register of Historic Places.

DATES: Comments should be submitted electronically by April 1, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before February 15, 2025. Pursuant to § 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

CALIFORNIA

Los Angeles County

Harrower Laboratory and Clinic, 912-920 E Broadway; 117 S Belmont Street, Glendale, SG100011584

Nursery School for Visually Handicapped Children, 4120 Marathon Street, Los Angeles, SG100011585

Los Angeles City Hall, 200 North Spring Street, Los Angeles, SG100011586

COLORADO

Denver County

Shorter Community AME Church, 119 Park Ave West, Denver, SG100011590

Otero County

Swink School, 321 Columbia Ave., Swink, SG100011578

Summit County

The Bunk House Lodge, 13203 CO-9, Breckenridge, SG100011589

IOWA

Scott County

International Harvester Truck Sales and Service Station, 601 West Second Street, Davenport, SG100011580

KANSAS

Jefferson County

Methodist Episcopal Church of Oskaloosa, 402 Liberty Street, Oskaloosa, SG100011579

LOUISIANA

Lincoln Parish

Gem Theater, 120 East Hico Street, Dubach, SG100011577

Rapides Parish

Central Louisiana State Hospital Historic District, 242 W Shamrock Ave., Pineville, SG100011575

MASSACHUSETTS

Worcester County

East End Historic District, 0 Anderson Purchase, 3 and 19 East End Road, 115-220 Main Street, Bolton, SG100011582

MONTANA

Lincoln County

Fortin Ranch House, 191 Ant Flat Road, Trego vicinity, SG100011583

NEBRASKA

Nemaha County

Stoddard, Nella Aldrich, Farm, Address Restricted, Auburn, SG100011587

PUERTO RICO

Guayanilla Municipality

Hacienda Fortuna, Barrio Sierra Baja, PR-375 Km. 1.5, Guayanilla vicinity, SG100011591

UTAH

Washington County

Canaan Gap Archaeological District, Address Restricted, Hildale vicinity, SG100011576

A request for removal has been made for the following resource(s):

OREGON

Josephine County

Rogue River Valley Grange No. 469, 2064 Upper River Rd., Grants Pass vicinity, OT92000130

A request to move has been received for the following resource(s):

TEXAS

Chambers County

Chambersea, Washington and Cummings Sts, Anahuac, MV79002925

Additional documentation has been received for the following resource(s):

TENNESSEE

Shelby County

Crawford, West J., House (Residential Resources of Memphis MPS), 290 S Lauderdale Street, Memphis, AD100010997

Authority: Section 60.13 of 36 CFR part 60.

Sherry A. Frear,
Chief, National Register of Historic Places/National Historic Landmarks Program.

[FR Doc. 2025-04259 Filed 3-14-25; 8:45 am]

BILLING CODE 4312-52-P